DEPARTMENT OF HOUSING AND URBAN DEVELOPMENT

[Docket No. FR-5551-N-01]

Mortgagee Review Board: Administrative Actions

AGENCY: Office of the Assistant Secretary for Housing—Federal Housing Commissioner, HUD.

ACTION: Notice.

SUMMARY: In compliance with Section 202(c)(5) of the National Housing Act, this notice advises of the cause and describes the administrative actions taken by HUD's Mortgagee Review Board against HUD-approved mortgagees.

FOR FURTHER INFORMATION CONTACT: Nancy A. Murray, Secretary to the Mortgagee Review Board, Department of Housing and Urban Development, 451 7th Street, SW., Room B-133/3150, Washington, DC 20410-8000; telephone 202-708-2224 (this is not a toll-free number). Persons with hearing or speech impairments may access this number through TTY by calling the toll-free Federal Information Service at 800-877-8339.

SUPPLEMENTARY INFORMATION: Section 202(c)(5) of the National Housing Act (12 U.S.C. 1708(c)(5)), requires that HUD “publish a description of and the cause for administrative action against a HUD-approved mortgagee” by the Department's Mortgagee Review Board (“Board”). In compliance with the requirements of section 202(c)(5), this notice advises of actions that have been taken by the Board from October 23, 2009, to February 7, 2011.

I. Settlement Agreements, Civil Money Penalties, Withdrawals of Federal Housing Administration (FHA) Approval, Suspensions, Probations, Reprimands, and Administrative Payments

1. 1st Continental Mortgage, Inc., Ft. Lauderdale, FL [Docket No. 10-1682-MR]

Action: On October 28, 2010, the Board issued a Notice of Administrative Action permanently withdrawing the FHA approval of 1st Continental Mortgage, Inc. (“1st Continental”).

Cause: The Board took this action based on the following violations of HUD/FHA requirements alleged by HUD: 1st Continental failed to maintain and implement a Quality Control (“QC”) Plan; failed to implement and follow HUD/FHA's Home Equity Conversion Mortgage (HECM) program requirements; charged borrowers excessive and duplicative fees; failed to disclose all charges to borrowers on the Good Faith Estimates; and submitted a false certification to HUD on its Title II annual Verification Report.

2. Action Mortgage Corporation, Cranston, RI [Docket No. 10-1855-MR]

Action: On August 23, 2010, the Board issued a Notice of Administrative Action immediately suspending the FHA approval of Action Mortgage Corporation (“AMC”) pending the completion of an investigation by the Office of Inspector General and my resulting legal proceedings.

Cause: The Board took this action based on the following violations of HUD/FHA requirements alleged by HUD: AMC failed to timely notify HUD that one of its officers had been indicted for an offense that reflected upon AMC's responsibility and integrity and its ability to participate in HUD programs; and AMC failed to timely notify HUD that the State of Rhode Island suspended its mortgage origination license.

3. Alacrity Lending Company, Southlake, TX [Docket No. 09-9912]

Action: On January 10, 2011, the Board entered into a settlement agreement with Alacrity Lending Company (“Alacrity”) pursuant to which the Board withdrew Alacrity's FHA Approval for a period of three years and conditioned Alacrity's future ability to participate in FHA programs upon HUD's approval of a new application for FHA approval, and Alacrity, without admitting fault or liability, agreed to pay a civil money penalty in the amount of $237,500.

Cause: The Board took this action based on the following violations of HUD/FHA requirements alleged by HUD: Alacrity failed to implement a QC Plan in compliance with HUD/FHA requirements; failed to provide a disclosure of a Controlled Business Arrangement when a settlement service provider was involved in the loan transaction with whom the lender had an ownership or other beneficial interest; failed to report serious violations identified during a QC review; failed to ensure that HUD/FHA's Construction-Permanent Mortgage Program requirements were met; failed to ensure that maximum mortgage amounts were properly calculated, resulting in over-insured mortgages; failed to ensure that there were no discrepancies between disbursements and/or sales prices on HUD-1 settlement statements or documents used to calculate loan amounts; failed to ensure that appraisal report findings were consistent or otherwise acceptable; and failed to ensure that properties located in Special Flood Hazard Areas were properly covered with flood insurance.

4. Allied Home Mortgage Corporation, Houston, Texas [Docket No. 10-1709-MR]

Action: On October 20, 2010, the Board entered into a settlement agreement with Allied Home Mortgage Corporation (“AHMC”) that required AHMC, without admitting fault or liability, to pay a civil money penalty in the amount of $46,000; to curtail the principal balance on one loan by the amount of $1,210; to refund $1,495 of fees to two borrowers; to pay the amount of $57,442.23 to indemnify HUD for losses incurred in connection with one loan; and to indemnify HUD for a period of five years for any losses that it may incur in connection with five loans.

Cause: The Board took this action based on the following violations of HUD/FHA requirements alleged by HUD: AHMC approved loans with debt-to-income ratios that exceeded HUD/FHA standards without significant compensating factors; failed to properly calculate and/or document the income used to qualify borrowers; improperly omitted recurring liabilities from underwriting analyses; failed to properly document the source of gift funds or assets; failed to ensure that the maximum insured mortgage amount was properly calculated, resulting in an over-insured mortgage; charged unallowable fees to mortgagors and collected processing fees from borrowers which it then paid directly to a contract processing company; and intermingled its business processes with those of Allied Home Mortgage Capital Corporation in violation of HUD/FHA requirements for a clear and effective separation of the two companies.

5. Allied Home Mortgage Capital Corporation, Houston, Texas [Docket No. 10-1961-MR]

Action: On September 2, 2010, the Board entered into a settlement agreement with Allied Home Mortgage Capital Corporation (“Allied”) that required Allied to pay a civil money penalty in the amount of $38,000 without admitting fault or liability.

Cause: The Board took this action based on the following violations of HUD/FHA requirements alleged by HUD: Allied failed to pay the required core operating costs for its branch offices.

6. Amarillo National Bank, Amarillo, TX [Docket No. 10-1928-MR]

Action: On December 28, 2010, the Board entered into a settlement agreement with Amarillo National Bank (“Amarillo”) that required Amarillo to pay a civil money penalty in the amount of $13,600 without admitting fault or liability.

Cause: The Board took this action based on the following violations of HUD/FHA requirements alleged by HUD: Amarillo failed to include mandatory elements in its adopted QC Plan; failed to conduct mandatory QC servicing reviews; failed to timely notify HUD of changes in the mortgagor and/or servicer of FHA-insured loans; failed to timely notify HUD and terminate insurance after FHA-insured loans were paid in full; and failed to properly report loan statuses and reasons for default into HUD's Single Family Default Monitoring System.

7. American Mortgage Group, Inc., Anthem, AZ [Docket No. 10-0010-MR]

Action: On November 1, 2010, the Board issued a Notice of Administrative Action withdrawing the FHA approval of American Mortgage Group, Inc. (“AMG”) for one year.

Cause: The Board took this action based on the following violations of HUD/FHA requirements alleged by HUD: AMG failed to notify HUD within ten days of its entrance into two consent orders with the State of Arizona, Department of Financial Institutions, and failed to notify HUD of changes to its contact information.

8. Bernard Mortgage Corporation, Chicago, IL [Docket No. 10-2001-MR]

Action: On October 28, 2010, the Board issued a Notice of Administrative Action withdrawing the FHA approval of Bernard Mortgage Corporation (“BMC”) for one year.

Cause: The Board took this action based on the following violation of HUD/FHA requirements alleged by HUD: BMC failed to notify HUD within ten days of changes affecting its standing as an approved institution.

9. Cambridge Home Capital, LLC, Great Neck, NY [Docket No. 10-1806-MR]

Action: On December 10, 2010, the Board issued a Notice of Administrative Action permanently withdrawing the FHA approval of Cambridge Home Capital, LLC (“Cambridge”), and imposing civil money penalties against Cambridge in the amount of $182,000.

Cause: The Board took this action based on the following violations of HUD/FHA requirements alleged by HUD: Cambridge failed to maintain and implement a QC Plan in accordance with HUD/FHA requirements; failed to adequately document the stability and/or source of income used to qualify borrowers; approved loans with ratios that exceeded HUD/FHA requirements without significant compensating factors; and used conflicting information in originating loans and obtaining HUD/FHA mortgage insurance.

10. Catalyst Lending, Inc., Greenwood Village, CO [Docket No. 10-1797-MR]

Action: On November 17, 2010, the Board entered into a settlement agreement with Catalyst Lending, Inc. (“Catalyst”) that required Catalyst to pay a civil money penalty in the amount of $50,000 without admitting fault or liability.

Cause: The Board took this action based on the following violations of HUD/FHA requirements alleged by HUD: Catalyst violated HUD/FHA requirements for a clear and effective separation of two mortgage companies; submitted false certifications to HUD in connection with transactions in which Catalyst allowed non-employees to originate FHA loans; violated HUD/FHA minimum staffing requirements by allowing one of its branch offices to operate without a branch manager; implemented a written employee policy and executed contractual agreements that violated HUD/FHA requirements; processed a HECM loan prior to the borrower's receipt of HECM counseling; and charged unallowable, unearned and/or unsupported fees.

11. Community Lender, Inc., Boise, ID [Docket No. 09-9843-MRT]

Action: On October 30, 2009, the Board issued a Letter of Reprimand to Community Lender, Inc. (“CLI”).

Cause: The Board took this action based on the following violation of HUD/FHA requirements alleged by HUD: CLI failed to notify HUD that the Idaho Department of Finance revoked CLI's lender license.

12. DAS Acquisition, LLC, St. Louis, Missouri [Docket No.10-1925-MR]

Action: On November 8, 2010, the Board entered into a Settlement Agreement with DAS Acquisition, LLC (“DAS”) that required DAS to pay a civil money penalty in the amount of $100,000 without admitting fault or liability. The Board also issued DAS a Letter of Reprimand.

Cause: The Board took this action based on the following violations of HUD/FHA requirements alleged by HUD: DAS failed to file Home Mortgage Disclosure Act (“HMDA”) and Regulation C-compliant reports for calendar years 2005, 2006, and 2007.

13. Equitable Trust Mortgage Corporation, Baltimore, MD [Docket No. 09-9604-MR]

Action: On September 30, 2010, the Board issued a Notice of Administrative Action immediately withdrawing the FHA approval of Equitable Trust Mortgage Corporation (“Equitable”) for a period of five years.

Cause: The Board took this action based on the following violations of HUD/FHA requirements alleged by HUD: Equitable failed to comply with the terms of a settlement agreement entered into with HUD on December 14, 2009, and amended on March 17, 2010.

14. First Ohio Banc and Lending, Inc., Independence, MO [Docket No. 09-9599-MR]

Action: On October 8, 2010, the Board entered into a settlement agreement with First Ohio Banc and Lending, Inc. (“First Ohio”) that required First Ohio to pay a civil money penalty in the amount of $12,000 without admitting fault or liability.

Cause: The Board took this action based on the following violation of HUD/FHA requirements alleged by HUD: First Ohio failed to ensure that loan applications were processed by authorized employees who worked exclusively for First Ohio.

15. Golden First Mortgage Corporation, Great Neck, NY [Docket No. 10-1927-MR]

Action: On August 13, 2010, the Board issued a Notice of Administrative Action immediately and permanently withdrawing the FHA approval of Golden First Mortgage Corporation (“Golden First”).

Cause: The Board took this action based on the following violation of HUD/FHA requirements alleged by HUD: Golden First failed to notify HUD that it voluntarily surrendered its state license to originate mortgages and that one of its officers agreed to pay a civil money penalty in the amount of fifty-thousand dollars ($50,000) to resolve a matter with the Office of Thrift Supervision (OTS).

16. Guild Mortgage Company, San Diego, CA [Docket No.10-1678-MR]

Action: On October 8, 2010, the Board entered into a settlement agreement with Guild Mortgage Company (“Guild”) that required Guild to pay a civil money penalty in the amount of $123,000 without admitting fault or liability.

Cause: The Board took this action based on the following violations of HUD/FHA requirements alleged by HUD: Guild failed to notify HUD within fifteen days of the termination of contracts for mortgage insurance and failed to timely remit mortgage insurance premiums.

17. Hartland Mortgage Centers, Inc., Woodbridge, IL [Docket No. 10-1823-MR]

Action: On December 28, 2010, the Board entered into a settlement agreement with Hartland Mortgage Centers, Inc. (“Hartland”) that required Hartland to pay a civil money penalty in the amount of $7,500 without admitting fault or liability.

Cause: The Board took this action based on the following violation of HUD/FHA requirements alleged by HUD: Hartland distributed an advertisement that misrepresented HUD/FHA's HECM program requirements in a mailer envelope that simulated a government form.

18. KRK Financial Services, Inc., Chicago, IL [Docket No. 09-9158-MR]

Action: On December 23, 2010, the Board issued a Notice of Administrative Action withdrawing the FHA approval of KRK Financial Services, Inc. (“KRK”) for a period of one year.

Cause: The Board took this action based on the following violation of HUD/FHA requirements alleged by HUD: KRK failed to notify HUD that the Illinois Department of Financial and Professional Regulation, Division of Banking, revoked its license and assessed it a fine of $100,000.

19. Mortgage Line Financial Corp., Woodbury, NY [Docket No. 10-1968-MR]

Action: On October 28, 2010, the Board issued a Notice of Administrative Action withdrawing the FHA approval of Mortgage Line Financial Corp. (“MLFC”) for one year.

Cause: The Board took this action based on the following violation of HUD/FHA requirements alleged by HUD: MLFC failed to notify HUD that it ceased its business operations.

20. New England Regional Mortgage Corporation, Salem, New Hampshire [Docket No. 10-1636-MR]

Action: On October 18, 2010, the Board entered into a settlement agreement with New England Regional Mortgage Corporation (“New England”) that required New England, without admitting fault or liability, to pay a civil money penalty of $3,500 and to buy down an over-insured mortgage in the amount of $6,353.04.

Cause: The Board took this action based on the following violation of HUD/FHA requirements alleged by HUD: New England approved a loan that exceeded HUD's maximum mortgage amount.

21. RSA Financial Inc., Atlanta, GA [Docket No. 10-1037-MR]

Action: On March 29, 2010, the Board issued a Notice of Administrative Action immediately and permanently withdrawing the FHA approval of RSA Financial (RSA). RSA appealed this action, and on June 22, 2010, RSA entered into a settlement agreement with the Board under which RSA accepted its immediate and permanent withdrawal.

Cause: The Board took this action based on the following violations of HUD/FHA requirements alleged by HUD: RSA failed to comply with a condition of its FHA approval and submitted false and misleading information to HUD in connection with its application for FHA approval.

22. Somerset Investors Corporation, Melville, NY [Docket No. 10-1706-MR]

Action: On October 28, 2010, the Board issued a Notice of Administrative Action permanently withdrawing the FHA approval of Somerset Investors Corporation (“Somerset”).

Cause: The Board took this action based on the following violations of HUD/FHA requirements alleged by HUD: Somerset approved loans that did not meet HUD/FHA's minimum credit requirements; failed to adequately document the income used to qualify the borrower; used conflicting information in originating and obtaining HUD/FHA mortgage insurance; failed to document the source of funds used for the down payment and/or closing costs; approved loans with debt-to-income ratios that exceeded HUD/FHA standards without significant compensating factors; omitted liabilities from the underwriting analysis without adequate documentation; charged borrowers unallowable fees; and failed to timely notify HUD of a state sanction.

23. Taylor, Bean & Whitaker Mortgage Corp., Ocala, FL [Docket No. 09-9607-MR]

Action: On October 28, 2010, the Board issued a Notice of Administrative Action permanently withdrawing the FHA approval of Taylor, Bean & Whitaker Mortgage Corp. (“TBW”). TBW consented to the permanent withdrawal of its FHA approval, without admitting or denying the Board's factual allegations, under the terms of a Consent Order entered into with HUD on February 7, 2011.

Cause: The Board took this action based on the following violations of HUD/FHA requirements alleged by HUD: TBW failed to place delinquent borrowers in the correct loss mitigation/disposition options; failed to analyze borrowers for loss mitigation in a timely manner; failed to perform management/foreclosure reviews; failed to input accurate codes into HUD/FHA's Single Family Default Monitoring System; failed to foreclose on properties in accordance with HUD/FHA guidelines; failed to maintain and implement a QC plan in compliance with HUD/FHA requirements; failed to ensure QC reviews were completed for early payment defaults; used falsified information in originating and/or underwriting and obtaining HUD/FHA mortgage insurance; failed to prevent documents used to verify credit and income from passing through the hands of interested third parties; failed to address deficient underwriting and/or document data analysis; engaged in a prohibited branch arrangement by allowing a separate mortgage company to function as a branch office; exceeded HUD/FHA's limitations when calculating the maximum insurable mortgage; approved loans with underwriting ratios that exceeded HUD/FHA standards without significant compensating factors; failed to adequately document a stable two-year employment history or other forms of effective income; failed to meet the minimum credit requirements for FHA insured loans; failed to adequately document the source of funds used to process and close loans; failed to reconcile discrepancies found in appraisal documents and/or provide documentation required for loan eligibility; failed to ensure that loans met the eligibility requirements for HUD/FHA mortgage insurance; failed to ensure 203(k) loan program requirements were met; failed to ensure that documents were not signed in blank; failed to ensure that borrowers were only charged permissible fees; failed to disclose the amount of the Yield Spread Premium on the Good Faith Estimate; failed to prevent non-employees from originating and/or processing HUD/FHA loans; failed to ensure that loans closed in the name of the FHA-approved principal; failed to ensure that the program requirements for the Construction-Permanent Mortgage program were met; failed to uphold its agreement with HUD to only originate direct mortgages through its direct lending branch; failed to provide HUD with loan documents upon request; and failed to ensure the data integrity of the information entered into the FHA Connection.

24. Vanderbilt Mortgage and Finance, Inc., Maryville, TN [Docket No. 10-1878-MR]

Action: On August 18, 2010, the Board entered into a settlement agreement with Vanderbilt Mortgage and Finance, Inc. (“Vanderbilt”) that required Vanderbilt to pay a civil money penalty of $15,000 without admitting fault or liability.

Cause: The Board took this action based on the following violations of HUD/FHA requirements alleged by HUD: Vanderbilt submitted false certifications to HUD on its electronic Annual Certifications, and failed to notify HUD that it had entered into a Settlement Agreement and Consent to Entry of a Consent Order with the North Carolina Office of the Commissioner of Banks.

25. WCS Lending, LLC, Boca Raton, FL [Docket No. 10-1964-MR]

Action: On September 2, 2010, the Board entered into a settlement agreement with WCS Lending, LLC (“WCS”) that required WCS to pay a civil money penalty of $3,500 without admitting fault or liability.

Cause: The Board took this action based on the following violations of HUD/FHA requirements alleged by HUD: WCS posted the HUD seal on a Web site maintained by a loan officer, and failed to register a branch office.

26. Windsor Capital Mortgage Corporation, San Diego, CA

Action: On October 28, 2010, the Board issued a Notice of Administrative Action withdrawing the FHA approval of Windsor Capital Mortgage Corporation (“WCMC”) for one year.

Cause: The Board took this action based on the following violations of HUD/FHA requirements alleged by HUD: WCMC failed to timely notify HUD that it entered into a Consent Order with the State of Arizona that contained sanctions and violations against WCMC, and failed to notify HUD of reportable business changes.

II. Lenders That Failed To Meet Requirements for Annual Recertification of HUD/FHA Approval

Action: The Board voted to withdraw FHA approval for each of the lenders listed below.

Cause: The Board took this action because the lenders were not in compliance with HUD's annual recertification requirements.

1. Advanced Funding Associates, Inc., Atlanta, GA.

2. Affiliated Mortgage Company, Tavares, FL.

3. Affinity Lending Group, LLC, Shreveport, LA.

4. Allstate Lending Group, Inc., Monterey Park, CA.

5. Alpine Financial & Mortgage Services Inc., Coral Springs, FL.

6. America Mortgage Center, LLC, Saint Cloud, FL.

7. America's Advantage Mortgage, Orland Park, IL.

8. America's Credit Union FCU, Fort Lewis, WA.

9. American Capital Financial Trading Corporation, Weston, FL.

10. American Frontier Financial Group, Pasadena, CA.

11. American Lending Group, Inc., St. Peters, MO.

12. AMEX Home Mortgage Corporation, Middleton, MA.

13. Best Home Loan, Inc., Jacksonville, FL.

14. Brian Butler Ventures, Inc., Houston, TX.

15. Bridgeline Capital Group, Inc., San Francisco, CA.

16. California Mortgage Advisory Corporation, Santa Ana, CA.

17. Centurion Funding Corporation America, Avon, MA.

18. Certified Home Loans of Florida, Inc., Miami, FL.

19. Citizens Mortgage Corporation, Waco, TX.

20. Clayton Peters & Associates, Baltimore, MD.

21. CMLC Funding, Inc., Menomonee Falls, WI.

22. Colonial Mortgage Corporation, Jericho, NY.

23. Community Development Bank, Ogema, MN.

24. Community Home Loans of America, LLC, Somerset, NJ.

25. Custom Mortgage, LLC, Arlington Heights, IL.

26. D & A Services Inc., Radcliff, KY.

27. Diamond Funding Corporation, Milford, MA.

28. Direct Home Mortgage Co., Warwick, RI.

29. Dreamerica Mortgage, Inc., Geneva, IL.

30. Drimslo Mortgage Corporation, Arlington, TX.

31. DSG Enterprises, LTD, Philadelphia, PA.

32. Elite Service Company Inc., Hixson, TN.

33. Enfinger Enterprise, Columbus, GA.

34. Epix Funding Group, Inc., Brandon, FL.

35. Equity United Mortgage Corporation, Ellicott City, MD.

36. FFA Mortgage Corporation, Tulsa, OK.

37. Financial Dynamics Mortgage Corporation, Cranston, RI.

38. First American Wholesale Lending Corp., Woodland Hills, CA.

39. First Coastal Mortgage, LLC, Huffman, TX.

40. First Community Mortgage Banc, Inc., Chicago, IL.

41. First Community Mortgage, Inc., Hyattsville, MD.

42. First Lenders Financial Group, Inc., Orlando, Florida.

43. First Realty Funding, Inc., La Puente, CA.

44. Flagship Mortgage of Alabama, LLC, Pike Road, AL.

45. Gooden Financial Group, Inc., Jacksonville, FL.

46. Greater Atlantic Bank, Front Royal, VA.

47. Greatland Financial Corporation, Wildomar, CA.

48. Heartland Mortgage, Inc., Walla Walla, WA.

49. Home Consultants, Inc. d/b/a HCI Mortgage, Lake Ariel, PA.

50. Home Quest Financial, Moreno Valley, CA.

51. Homeowners Mortgage Corporation, Lanham, MD.

52. Horizon Mortgage Investment Co., Tacoma, WA.

53. Integrated Mortgage Corporation, San Francisco, CA.

54. J.R. Davidson, Inc., Cornelius, NC.

55. Jigsaw Mortgage Corporation, Rancho Cucamonga, CA.

56. JMO, Inc., Temecula, CA.

57. Karim Enterprises, Inc., St. Charles, MO.

58. Lakes and Hills Mortgage Co., Marble Falls, TX.

59. Landmark Mortgage Corporation, Gretna, LA.

60. Legacy Mortgage Group, LLC, Idaho Falls, ID.

61. Lehi Mortgage Services, Inc., Quincy, MA.

62. LHM Financial Group, Inc., Austin, TX.

63. Liberty Financial Group, Inc. Bellevue, WA.

64. Living Proof Mortgage, Inc., Griffin, GA.

65. Loan Wiz, Inc., Miami, FL.

66. Mack Mortgage & Financial Group, Inc., Maple Grove, MN.

67. Mainstreet Mortgage Services, Inc., Pittsburgh, PA.

68. McKenzie Funding, LLC, Springfield, OR.

69. Merchants Mortgage & Trust Corporation, Greenwood Village, CO.

70. Mesak, Inc., Montebello, CA.

71. Midland Community Bank, Kincaid, IL.

72. MinnWest Bank Ortonville, Ortonville, MN.

73. Money Line, Inc., Tucson, AZ.

74. Mortgage Associates, Inc., Columbia, MD.

75. Mortgage Concepts, LLC, Phoenix, AZ.

76. Mortgage Loan Solutions, Inc., Lyons, IL.

77. Mortgage Plus Corporation, Wilmington, DE.

78. Mortgage Source of Colorado, LLC, Fort Collins, CO.

79. Mortgages for U LLC, Summerville, SC.

80. Mountainside Mortgage Company, Clark, NJ.

81. MSG—The Mortgage Specialist Group, Grapevine, TX.

82. Nationwide Funding Corporation, LLC, Chantilly, VA.

83. Northeast Residential Mortgage, LLC, Saddle River, NJ.

84. Old Homestead Mortgage Company, Moses Lake, WA.

85. ONB Bank & Trust Co., Tulsa, OK.

86. Optima Mortgage Corporation, Tustin, CA.

87. Orbit Mortgage Company, Coral Springs, FL.

88. Origen Financial, LLC, Southfield, MI.

89. Pacific Atlantic Mortgage Corporation, Oviedo, FL.

90. Pappadakis Corporation, Jacksonville, FL.

91. Partners Lending, LLC, Clearfield, UT.

92. Pennywise Mortgage Company, Miami, FL.

93. Pioneer Financial Corporation, Payson, UT.

94. Pioneer Mortgage Corporation, Las Vegas, NV.

95. Platinum Reverse Mortgage Corp., Boca Raton, FL.

96. Plus4 Credit Union, Houston, TX.

97. Premier Bank Minnesota, Bloomington, MN.

98. Premier Mortgage Services, LLC, Woodbridge, NJ.

99. Primrose Mortgage Company Inc., Woodstock, GA.

100. Q P Mortgage Banking Center, Inc., Yonkers, NY.

101. Rapid Mortgage Co., Inc., Edinburg, TX.

102. Reaching Another Dimension Financial Services Inc., Sunrise, FL.

103. Reliance Mortgage Co., Dallas, TX.

104. RH Financial Services, Inc., Portland, OR.

105. RT Funding Group Inc., Albuquerque, NM.

106. Security Home Mortgage, Inc., York, PA.

107. South Lake Mortgage Bankers, Inc., Pasadena, CA.

108. SVI Group Inc., San Jose, CA.

109. Syamni Funding, Inc., Richmond Hill, NY.

110. Talman Mortgage and Financial Group, Chicago, IL.

111. The Link LLC, Durango, CO.

112. Top Mortgage Bankers Corp., San Juan, PR.

113. Travis Mortgage, LLC, Glastonbury, CT.

114. Tri-Starr Mortgage and Financial Services, Inc., Hollywood, FL.

115. Trident Mortgage Company, LLC, Littleton, CO.

116. Trinity United Mortgage, LLC, Baton Rouge, LA.

117. Trustworthy Mortgage Corp., Vienna, VA.

118. U.S. Financial Mortgage Corporation, Rocklin, CA.

119. Unibanc Mortgage Corporation, Aurora, IL.

120. USA Mortgage Bankers Corporation, Miami, FL.

121. Wadot Capital, Inc., Seattle, WA.

122. Westland Funding Group, Inc., Palm City, FL.

123. World Mortgage Financing LLC, Birmingham, AL.

III. Lenders That Failed To Timely Meet Requirements for Annual Recertification of HUD/FHA Approval and Have Cured

Action: The Board voted to give the lenders below an opportunity to settle. The settlements required each lender to pay a $7,500, $3,500, or $1,000 civil money penalty without admitting fault or liability.

Cause: The Board took this action because the lenders failed to timely comply with the HUD's annual recertification requirements; however, they are now in compliance.

1. American Affordable Homes, Inc., Fairfax VA, 10-1683-MRT.

2. American Home Financial Services II, Inc., Lexington, TN, 10-2511-MRT.

3. American Mortgage and Investment Services, Inc., Silver Spring, MD, 10-1239-MRT.

4. American West Credit Corporation, Alta Loma, CA, 08-8054-MRT.

5. Apple Mortgage Network, Inc., Union, NJ, 10-1653-MRT.

6. Approval One Financial Services, Jackson, MI, 10-1192-MRT.

7. Argon Enterprises, Inc., Hawthorne, CA, 10-1697-MRT.

8. Assured Capital Funding Corporation, Shelby Township, MI, 10-1155-MRT.

9. Assured Mortgage Bankers Corporation, Manasquan, NJ, 09-9413-MRT

10. Bank of Jackson Hole, Jackson, WY, 10-1205-MRT.

11. Bank of Turtle Lake, Turtle Lake, ND, 10-1204-MRT.

12. Belpre Savings Bank, Belpre, OH, 10-1145-MRT.

13. Benchmark Mortgage LLC, Montgomery, TX, 10-1276-MRT.

14. Best Results Mortgage Corporation, Huntington Park, CA, 10-1670-MRT.

15. C A N Properties Corporation, San Bernardino, CA, 10-1670-MRT.

16. Cabarrus Bank & Trust Company, Concord, NC, 10-1161-MRT.

17. Citizens Choice Mortgage, Las Vegas, NV, 10-1680-MRT.

18. Citizens National Bank Springfield, Springfield, MO, 10-1206-MRT.

19. Commonwealth United Mortgage Corporation, Mount Laurel, NJ, 10-1637-MRT.

20. Community Mortgage, LLC, Independence, MO, 10-1050-MRT.

21. Courtesy Mortgage Company, San Diego, CA, 100-1039-MRT.

22. Crestline Funding Corporation, Irvine, CA, 10-1638-MRT.

23. Customized Mortgage Solutions, LLC, Old Tappan, NJ, 10-1404-MRT.

24. Dominion Mortgage and Financial Services, Inc., Anderson, SC, 10-1242-MRT.

25. Ecom Mortgage, Inc., San Gabriel, CA, 10-1267-MRT.

26. EMC Mortgage Corporation, Lewisville, TX, 10-1913-MRT.

27. Entrafund Home Mortgage, LLC, Mandeville, LA, 10-1095-MRT.

28. ESB Mortgage Company, Ennis, TX, 10-1022-MRT.

29. Financial Partners Credit Union, Downey, CA, 09-9508-MRT and 09-9509-MRT.

30. First American Bank and Trust Company, Athens, GA, 09-9771-MRT.

31. First Equity Lending, Inc., Madison, WI, 10-1255-MRT.

32. First Financial Bank, N.A., Hamilton, OH, 09-9204-MRT.

33. First Mortgage Services, Inc., Baton Rouge, LA, 10-1911-MRT.

34. First Prestige Mortgage Services, Inc., Montclair, NJ, 10-1905-MRT.

35. First Residential Mortgage, Inc., Pikesville, MD, 10-1732-MRT.

36. Gold Miners Investment, Inc., Los Angeles, CA, 10-1904-MRT.

37. Golden Gate Mortgage, Inc., Columbia, SC, 10-1867-MRT.

38. Goldman Sachs Housing and Health Care Funding Company, New York, NY, 09-9855-MR.

39. Gotham City Mortgage Corp., East Elmhurst, NY, 10-1847-MRT.

40. Green Valley Mortgage, LLC, Fairfax, VA, 10-1063-MRT.

41. Heartland Home Mortgage, LLC, Grand Rapids, MI, 10-1740-MRT.

42. Home Mortgage Corporation, Atlanta, GA, 09-9850-MRT.

43. Hometown Bank of Corbin, Inc., Corbin, KY, 10-1020-MRT.

44. HR Mortgage Corporation, Caguas, PR, 10-1745-MRT.

45. Integrity Mortgage Corporation, Arlington Heights, IL, 10-1186-MRT.

46. InterGlobal Mortgage Lending, LLC, Miami, FL, 10-1344-MRT.

47. Jay's Mortgage Acceptance Corporation, Houston, TX, 10-1914-MRT.

48. Jones National Bank & Trust Co., Seward, NE, 10-1072-MRT.

49. Lakeshore Mortgage Group, Inc., Chesterton, IN, 10-1041-MRT.

50. Magnolia Mortgage, Inc., New Iberia, LA, 09-9848-MRT.

51. Marshall Redder Home Mortgage Corporation, Grandville, MI, 10-1385-MRT and 10-1384-MRT.

52. Massachusetts Mortgage Corporation, Shrewsbury, MA, 09-9905-MRT.

53. McNeil Financial Group, Inc., Lake in the Hills, IL, 10-1169-MRT.

54. Mortgage Capital Group, Inc., Crystal Lake, IL, 09-9789-MRT.

55. Mortgage Dreams, LLC, Charlton, MA, 10-1857-MRT.

56. Mortgage Max Corporation, Las Vegas, NV, 10-1302-MRT.

57. Mortgage Square, Inc., Northbrook, IL, 10-1838-MRT.

58. N.R.F. Funding Corporation, Rockville Centre, NY, 10-1405-MRT. New York, NY, 09-9855-MR.

59. Olmsted National Bank, Rochester, MN, 10-1765-MRT.

60. Oyster Mortgage Co., Inc., Arnold, MD, 10-1837-MRT.

61. Pacific Reverse Mortgage, Inc., San Diego, CA, 10-1920-MRT.

62. Phoenix Funding Corporation, O'Fallon, IL, 10-1335-MRT.

63. Preferred Mortgage Consultants, Inc., Northfield, OH, 10-1770-MRT.

64. Prime Finance LLC, Parsippany, NJ, 10-1834-MRT.

65. Real Mortgage Partners, Inc., Austin, TX, 10-1263-MRT.

66. Reverse Mortgage Advisors, LLC, Tewksbury, MA, 10-1849-MRT.

67. S. P. Financing, Inc., Covina, CA, 10-1901-MRT.

68. SAI Mortgage, Inc., Springfield, VA, 10-1146-MRT.

69. Select One Mortgage, Inc., Hudson, WI, 10-1531-MRT.

70. Slocumb National Bank, Slocumb, AL, 10-1342-MRT.

71. Solution One Mortgage, LLC, South Charleston, WV, 10-1051-MRT.

72. Success Mortgage, LLC, Winchester, VA, 10-1281-MRT.

73. Summit Home Loans, Inc., Loveland, OH, 10-1057-MRT.

74. Superior Financial Services, Inc., Stow, OH, 10-1181-MRT.

75. The Construction Loan Company, Inc., Howell, MI, 10-1702-MRT.

76. The Finance Group, Modesto, CA, 19-18434-MRT.

77. The Mortgage Company, LLC, Milwaukee, WI, 09-9543-MRT.

78. The Mortgage Loan Co., Inc., San Juan, PR, 10-1923-MRT.

79. The New Vision Mortgage, LLC, Clifton, NJ, 10-1264-MRT.

80. The Paramount Funding Company, Miami, FL, 10-1127-MRT.

81. Tidewater Mortgage Services, Inc., Virginia Beach, VA, 10-1100-MRT.

82. Tradition Mortgage, LLC, Edina, MN, 10-1106-MRT.

83. Tri-Emerald Financial Group, Inc., Lake Forest, CA, 09-9467-MR.

84. Tristar Mortgage Corporation, Staten Island, NY, 10-1785-MRT.

85. TruStone Financial Federal Credit Union, Plymouth, MN, 10-1107-MRT.

86. UBS Real Estate Investment, Inc., Stamford, CT, 10-1918-MRT.

87. United Community Mortgage Corporation, Keyport, NJ, 10-1154-MRT.

88. United Funding Mortgage Corp., Alpharetta, GA, 10-1803-MRT.

89. United Mortgage Corporation of America, Port Angeles, WA, 10-1243-MRT.

90. Worldwide Capital Mortgage Corporation, Bay Shore, NY, 10-1332-MRT.

91. Zenith Mortgage Advisors, Inc., Milford, MA, 10-1852-MRT.

Dated: July 21, 2011.
Carol Galante,
Acting Assistant Secretary for Housing—Federal Housing Commissioner.

[FR Doc. 2011-19293 Filed 7-28-11; 8:45 am]

BILLING CODE 4210-67-P